SECURITIES AND EXCHANGE COMMISSION

Submission for OMB Review; Comment Request

Upon Written Request, Copies Available From: Securities and Exchange Commission, Office of Filings and Information Services, Washington, DC 20549.

Extension

Form S-2, SEC File No. 270-60, OMB Control No. 3235-0072

Form F-1, SEC File No. 270-249, OMB Control No. 3235-0258

Form F-2, SEC File No. 270-250, OMB Control No. 3235-0257

Form F-3, SEC File No. 270-251, OMB Control No. 3235-0256

Form F-7, SEC File No. 270-331, OMB Control No. 3235-0383

Form F-8, SEC File No. 270-332, OMB Control No. 3235-0378

Form F-X, SEC File No. 270-336, OMB Control No. 3235-0379

Form DF, SEC File No. 270-430, OMB Control No. 3235-0482

Schedule 13E-4F, SEC File No. 270-340, OMB Control No. 3235-0375

Schedule 14D-1F, SEC File No. 270-338, OMB Control No. 3235-0376

Schedule 14D-9F, SEC File No. 270-339, OMB Control No. 3235-0382

Notice is hereby given that pursuant to the Paperwork Reduction Act of 1995 (44 U.S.C. 3501 et seq.) the Securities and Exchange Commission (Commission) has submitted to the Office of Management and Budget requests for extension on the previously approved collections of information discussed below.

Form S-2 is used for registration of securities of certain issuers. The Form S-2 provides investors with the necessary information to make investment decisions regarding securities offered to the public. The likely respondents will be public companies. The information collected must be filed with the Commission. All information is provided to the public upon request. Form S-2 takes 470 burden hours to prepare and is filed by 101 respondents for a total of 47,470 burden hours.

Form F-1 is a registration statement of securities of certain foreign private issuers. Form F-1 provides the public with the necessary information to make informed investment decisions regarding securities offered to the public by foreign private issuers. The information provided on Form F-1 is mandatory. All information on Form F-1 is reported to the public upon request. Form F-1 takes approximately 1,868 burden hours to prepare and is filed by 170 respondents. It is estimated that 25% of the 317,560 total burden hours (79,390 hours) would be prepared by the company.

Form F-2 is a registration statement of securities of certain foreign private issuers. Form F-2 provides the public with the necessary information to make informed investment decisions regarding securities offered to the public by foreign private issuers. The information provided on Form F-2 is mandatory. All information on Form F-2 is provided to the public upon request. Form F-2 takes approximately 559 hours to prepare and is filed by 5 respondents. It is estimated that 25% of the 2,795 total burden hours (699 hours) would be prepared by the company.

Form F-3 is a registration statement of securities of certain foreign issuers offered pursuant to certain types of transactions. Form F-3 provides the public with the necessary information to make informed investment decisions regarding securities offered to the public by foreign private issuers. The information provided on Form F-3 is mandatory. All information on Form F-3 is provided to the public upon request. Form F-3 takes approximately 166 burden hours to prepare and is filed by 150 respondents. It is estimated that 25% of the 24,900 total burden hours (6,255 hours) would be prepared by the company.

Form F-7 is a registration statement of securities of certain Canadian issuers offered for cash upon the exercise of rights granted to existing securityholders. Form F-7 provides the public with the necessary information to make informed investment decisions regarding securities offered to the public. The information provided on Form F-7 is mandatory. All information is provided to the public upon request. It takes approximately 1 burden hour to prepare and is filed by 5 respondents.

Form F-8 is a registration statement of securities of certain Canadian issuers to be issued in exchange offers or a business combination. Form F-8 provides the public with the necessary information to make informed investment decisions. The information provided on Form F-8 is mandatory. All information on Form F-8 is provided to the public upon request. Form F-8 takes one burden hour to prepare and is filed by 16 respondents. It is estimated that 25% of the 16 total burden hours (4 hours) would be prepared by the company.

Form F-X is used to appoint an agent for service of process by Canadian issuers registering securities on Form F-7, F-8, F-9 or F-10 or filing periodic reports on Form 40-F under the Securities Exchange Act of 1934. The information required on form F-X provides investors with the necessary information when considering investing in Canadian companies. form F-X takes 2 burden hours to prepare and is filed by 129 respondents. It is estimated that 25% of the 258 total burden hours (64.5 hours) would be prepared by the company.

Form DF is used to allow registrants to identify a filing that was filed late because of electronic filing difficulties in order to preserve the timeliness of the filing. This form is required by all issuers who are required to file on EDGAR. In addition, Form DF is required to be filed on occasion. All information provided on Form DF is provided to the public upon request. Form DF takes 12 minutes to prepare and is filed by 500 respondents for a total of 100 burden hours.

Schedule 13E-4F may be used by any issuer incorporated or organized under the laws of Canada making a tender offer for the issuer's own securities, where less than 20% of the class of such issuer's securities that is subject of the tender offer is held of record by U.S. residents. The information required by Schedule 13E-4F must be filed with the Commission. All information is provided to the public upon request. Schedule 13E-4F takes 2 burden hours to prepare and is filed by 3 respondents for a total of 6 burden hours.

Schedule 14D-1F may be used by any person making a cash tender or exchange offer for securities of any issuer incorporated or organized under the laws of Canada that is a foreign private issuer, where less than 40% of the outstanding class of such issuer's securities that is the subject of the offer is held by U.S. holders. The information required by Schedule 14D-1F must be filed with the Commission. All information is provided to the public upon request. Schedule 14D-1F takes 2 burden hours to prepare and is filed by 5 respondents for a total of 10 burden hours.

Schedule 14D-9F is used by any issuer incorporated or organized under the laws of Canada, or by any director or officer of such issuer, where the issuer is the subject of tender offer for a class of its securities filed on Schedule 14D-1F. The information required by Schedule 14D-9F must be filed with the Commission. All information is provided to the public upon request. Schedule 14D-1F takes 2 burden hours to prepare and is filed by 5 respondents for a total of 10 burden hours.

An agency may not conduct or sponsor, and a person is not required to respond to, a collection of information unless it displays a currently valid control number.

Written comments regarding the above information should be directed to the following persons (i) Desk Officer for the Securities and Exchange Commission, Office of Information and Regulatory Affairs, Office of Management and Budget, Room 10102, New Executive Office Building, Washington, D.C. 20503, and (ii) Michael E. Bartell, Associate Executive Director, Office of Information Technology, Securities and Exchange Commission, 450 Fifth Street, NW., Washington, DC 20549. Comments must be submitted to OMB within 30 days of this notice.

Dated: March 31, 2000.
Margaret H. McFarland,
Deputy Secretary.

[FR Doc. 00-8874 Filed 4-10-00; 8:45 am]

BILLING CODE 8010-01-M